DEPARTMENT OF ENERGY

Federal Energy Regulatory Commission

[Docket No. RP02-95-000]

Viking Gas Transmission Company; Notice of Tariff Filing

December 6, 2001.

Take notice that on November 30, 2001, Viking Gas Transmission Company (Viking) tendered for filing as part of its FERC Gas Tariff, First Revised Volume No. 1 the following tariff sheets to become effective January 1, 2002:

Twenty-Seventh Revised Sheet No. 6

Twentieth Revised Sheet No. 6A

Eleventh Revised Sheet No. 6B

Viking states that the purpose of this filing is to change Viking's Gas Research Institute Adjustment (GRI Adjustment) as permitted by Sections 154.204 and 154.401 of the Commission's Rules and Regulations, 18 CFR 154.204, 154.401and in accordance with the Commission's September 19, 2001 “Letter Order Regarding the Application of Gas Research Institute for Advance Approval of Its 2002-2006 RD&D Plan and 2002 RD&D Program and Jurisdictional Rate Provisions To Fund the 2002 Program,” issued in Docket No. RP01-434-000 (“September 19, 2001 Letter Order”). Viking's authority to make this filing is set forth in Article XVIII of the General Terms and Conditions of Viking's FERC Gas Tariff, First Revised Volume No. 1.

Accordingly, Viking's GRI Adjustment has been changed to reflect the Commission's September 19, 2001 Letter Order as follows: a demand/reservation surcharge of 6.6 cents per Dth per month for high load factor customers; a demand/reservation surcharge of 4.07 cents per Dth per month for low load factor customers; and a volumetric commodity/usage surcharge of .55 cents per Dth.

Viking states that copies of the filing have been mailed to all of its jurisdictional customers and to affected state regulatory commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30680 Filed 12-11-01; 8:45 am]

BILLING CODE 6717-01-P